Title 3—

The President

Memorandum of July 19, 2011

Delegation of Certain Function and Authority Conferred Upon the President by Section 1535(c)(1) of the Ike Skelton National Defense Authorization Act for Fiscal Year 2011

Memorandum for the Secretary of State

By the authority vested in me as President by the Constitution and the laws of the United States, including section 301 of title 3, United States Code, I hereby delegate to you, in coordination with the Secretary of Defense, the function and authority conferred upon the President by section 1535(c)(1) of the Ike Skelton National Defense Authorization Act for Fiscal Year 2011, Public Law 111-383, to make the specified report to the Committees on Armed Services, Foreign Relations, and Appropriations of the Senate and the Committees on Armed Services, Foreign Affairs, and Appropriations of the House of Representatives.

You are authorized and directed to publish this memorandum in the Federal Register.

THE WHITE HOUSE,

Washington, July 19, 2011

[FR Doc. 2011-31740

Filed 12-7-11; 11:15 am]

Billing code 4710-10-P